DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Economic Census, Commodity Flow Survey.

Form Number(s): CFS-1000.

Agency Approval Number: None.

Type of Request: New collection.

Burden: 400,000 hours.

Number of Respondents: 50,000.

Avg Hours Per Response: 2 hours.

Needs and Uses: The 2002 Commodity Flow Survey, a component of the Census Bureau's 2002 Economic Census, is a cooperative effort between the Census Bureau and the Department of Transportation's Bureau of Transportation Statistics. The survey produces key information about the transportation of freight in the United States. The Commodity Flow Survey is the only source of nationwide data on the movement of goods from origin to destination by all modes of transportation and for intermodal combinations. This survey provides a crucial set of statistics on the value, weight, mode, and distance of commodities shipped by mining, manufacturing, wholesale, and selected retail establishments. The Census Bureau will publish these statistics at the national, Census Region, Census Division, state, and selected Metropolitan Area levels. As in the 1997 Commodity Flow Survey, this survey also identifies shipments that are exports and/or shipments of hazardous materials.

Federal, state, and local government agencies spend over $100 billion annually on transportation programs. The Commodity Flow Survey provides data that are critical to these agencies in making a wide range of transportation investment decisions for developing and maintaining an efficient transportation infrastructure that supports economic growth and competitiveness. Numerous other Federal, state, and local agencies require the Commodity Flow Survey data on transportation flows, as they impact the domestic economy in many ways. Transportation planners require the periodic benchmarks provided by a continuing Commodity Flow Survey to evaluate and respond to ongoing geographic shifts in production and distribution centers, as well as policies such as just in time delivery.

The 2002 Commodity Flow Survey will be a mail-out/mail-back sample survey of 50,000 business establishments. Respondents will be asked to provide four reports each over the course of 2002. This reflects a reduction of 50 percent in sample size from the 1997 Commodity Flow Survey as a result of funding limitations. If full funding were to become available, the sample size would be increased to 100,000 establishments.

Affected Public: Businesses or other for-profit.

Frequency: Data will be collected quarterly over the course of 2002. The collection is conducted every five years as part of the quinquennial economic census.

Respondent's Obligation: Mandatory.

Legal Authority: Title 13 U.S.C., Sections 131, 193 and 224.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: August 30, 2001.
Madeleine Clayton,
Departmental Paperwork Clearance Officer, Office of the Chief Information Officer.

[FR Doc. 01-22348 Filed 9-5-01; 8:45 am]

BILLING CODE 3410-07-P